DEPARTMENT OF DEFENSE

Department of the Air Force

Privacy Act of 1974; System of Records

AGENCY: Department of the Air Force, DoD.

ACTION: Notice to add a record system.

SUMMARY: The Department of the Air Force proposes to add a system of records notice to its inventory of records systems subject to the Privacy Act of 1974 (5 U.S.C. 552a), as amended.

DATES: The actions will be effective on March 28, 2005, unless comments are received that would result in a contrary determination.

ADDRESSES: Send comments to Mrs. Eugenia Harms, Air Force Privacy Act Officer, AF-CIO/P, 1155 Air Force Pentagon, Washington, DC 20330-1155.

FOR FURTHER INFORMATION CONTACT: Mrs. Eugenia Harms at (703) 696-6280.

SUPPLEMENTARY INFORMATION: The Department of the Air Force's record system notices for records systems subject to the Privacy Act of 1974 (5 U.S.C. 552a), as amended, have been published in the Federal Register and are available from the address above.

The proposed system report, as required by 5 U.S.C. 552a(r) of the Privacy Act of 1974, as amended, was submitted on January 26, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: February 18, 2005.
Jeannette Owings-Ballard,
OSD Federal Register Liaison Officer, Department of Defense.

F033 AF E

System name:

Air Force Directory Services (AFDS).

System location:

Air Force Directory Services, HQ Standard Systems Group (SSG)/DOPP, 201 E. Moore Drive, Building 856, Room 108, Gunter Annex, Maxwell AFB, AL, 36114-2014.

Categories of individuals covered by the system:

Air Force active duty, reserve and guard members, civilian employees, contractors, foreign nationals, and retirees.

Categories of records in the system:

Information includes name, Electronic Data Interchange-Personal Identifier (EDI-PI), Social Security Number, date of birth, gender, citizenship status, MAJCOM, base name, office symbol, assigned and attached unit/PAS, personal category code, duty assigned code, generational qualifier, pay plan, pay grade, rank, reservist/ANG category code, non-publish Status (protected airman), phone number, fax number, e-mail address, DoD PKI certificate.

Authority for maintenance of the system:

10 U.S.C. 8013, Secretary of the Air Force; Air Force Instruction 33-213, Identity Management; and E.O. 9397 (SSN).

Purpose(s):

This database serves as broker of authoritative personnel identification data used by various network applications. It is used to consolidate and distribute data from a number of authoritative sources. To simplify the management of identification data elements about war fighters within individual application by giving systems access to near real time data about their users.

Routine uses of records maintained in the system including categories of users and the purpose of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of record system notices apply to this system.

Policies and practices for storing, retrieving, accessing, retaining, and disposing of records in the system:

Storage:

Maintained in computer and computer output products.

Retrievability:

Records are retrieved by a unique 10-digit identifier, Electronic Data Interchange-Personal Identifier (EDI-PI).

Safeguards:

Records are accessed by person(s) responsible for servicing the record system in performance of their official duties and by authorized personnel who are properly screened and cleared for need-to-know. The storage area network hosting the data is located in a controlled area secured by an electronic entry system relying on a security token and PIN. Access to the automated records is controlled and limited.

Retention and disposal:

Deleted when superseded, obsolete, or no long needed, whichever is later.

system manager(s) and address:

Program Manager, Air Force Directory Services, Program Management Office, HQ SSG/DOP, 501 E. Moore Dr., Suite 1200H, Gunter Annex—Maxwell AFB, AL 36114-3014.

Notification procedure:

Individuals seeking to determine whether information about themselves is contained in this system of records may contact Air Force Directory Services Technical Lead, 501 E. Moore Dr., Suite 1254, Gunter Annex—Maxwell AFB, AL 36114-3014.

Record access procedures:

Individuals seeking to access records about themselves contained in this system of records may contact Air Force Directory Services Technical Lead, 501 E. Moore Dr., Suite 1254, Gunter Annex—Maxwell AFB, AL 36114-3014, E-mail: afds@gunter.af.mil.

Contesting records procedures:

The Air Force rules for accessing records, and for contesting contents and appealing initial agency determinations are published in Air Force Instruction 33-332; 32 CFR part 806b; or may be obtained from the system manager.

Record source categories:

Information is derived from Air Force Personnel Center, Global Data System, the Defense Manpower Data Center, and the Air Force Global Address List.

Exemptions claimed for the system:

None.

[FR Doc. 05-3668 Filed 2-24-05; 8:45 am]

BILLING CODE 5001-06-M